DEPARTMENT OF HOMELAND SECURITY

Federal Emergency Management Agency

44 CFR Part 67

[Docket No. FEMA-B-7737]

Proposed Flood Elevation Determinations

AGENCY: Federal Emergency Management Agency, DHS.

ACTION: Proposed rule.

SUMMARY: Technical information or comments are requested on the proposed Base (1% annual chance) Flood Elevations (BFEs) and proposed BFEs modifications for the communities listed below. The BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: William R. Blanton, Jr., Engineering Management Section, Mitigation Directorate, Federal Emergency Management Agency, 500 C Street, SW., Washington, DC 20472, (202) 646-3151.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This proposed rule is not a significant regulatory action under the criteria of section 3(f) of Executive Order 12866 of September 30, 1993, Regulatory Planning and Review, 58 FR 51735.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Flooding source(s) | Location of referenced elevation | * Elevation in feet (NGVD) + Elevation in feet (NAVD) # Depth in feet above ground: Effective | * Elevation in feet (NGVD) + Elevation in feet (NAVD) # Depth in feet above ground: Modified | Communities affected
Adams County, Indiana, and Incorporated Areas
Borum Run | At confluence with St. Marys River | +789 | +791 | Unincorporated Areas of Adams County, City of Decatur.
| Approximately 5,125 feet upstream of High Street | +789 | +791
Holthouse Ditch | At confluence with St. Marys River | +785 | +787 | Unincorporated Areas of Adams County, City of Decatur.
| Approximately 4,700 feet upstream of Washington Street | +786 | +787
Kohne Drain No. 1 | At confluence with Holthouse Ditch | +785 | +787 | Unincorporated Areas of Adams County, City of Decatur.
| Approximately 1,350 feet upstream of Meibers Street | +786 | +787
Koos Ditch | At confluence with St. Mary's River | +788 | +789 | Unincorporated Areas of Adams County, City of Decatur.
| Approximately 1,550 upstream of Piqua Road | +788 | +789
St. Marys River | Approximately 14,750 feet downstream of County Road 350 West | +776 | +778 | Unincorporated Areas of Adams County, City of Decatur.
| Approximately 16,650 feet upstream of State Road 101 | None | +794
Yellow Creek | At the confluence with the St. Marys River | +789 | +791 | Unincorporated Areas of Adams County.
| Approximately 1,750 feet upstream of Norfolk and Western Railway | +790 | +791
* National Geodetic Vertical Datum.
+ North American Vertical Datum.
# Depth in feet above ground.
ADDRESSES
City of Decatur
Maps are available for inspection at 225 West Monroe Street, Decatur, IN 46733.
Send comments to The Honorable Fred R. Isch, Mayor, 225 West Monroe Street, Decatur, IN 46733.
Unincorporated Areas of Adams County
Maps are available for inspection at 313 W. Jefferson St., Suite 338, Decatur, IN 46733.
Send comments to Mr. Doug Bauman, Adams County Commissioner, 313 W. Jefferson St., Suite 200, Decatur, IN 46733.
Tarrant County, Texas, and Incorporated Areas
Big Bear Creek | Approximately 1270ft downstream of the intersection at Highway 183 | +528 | +527 | City of Fort Worth, City of Euless, City of Grand Prairie, City of Grapevine, City of Keller, City of South Lake, Town of Colleyville, Unincorporated Areas of Tarrant County.
| Approximately 93ft downstream of the intersection with Bear Creek Pkwy. | +759 | +758
Hogpen Branch | Approximately 83 feet upstream from intersection with Country Club Road | +584 | +582 | City of Mansfield.
| Approximately 100 feet downstream from intersection with Highway 157 | +620 | +621
Johnson Creek | Intersection with Avenue K | +470 | +467 | City of Grand Prairie.
| Approximately 200 feet upstream of intersection with Highway 360 | +510 | +511
Nichols Branch | Intersection with Newt Patterson Road | +601 | +599 | City of Mansfield.
| Approximately 560 feet downstream of intersection with Columbria Drive | None | +620
Plantation East Creek | Upstream of Llano Avenue approximately 290 feet | +652 | +651 | City of Benbrook.
| Approximately 288 feet upstream of Circle S Road | +686 | +685
Plantation West Creek, Stream MSC-1A | Intersection with Twilight Drive W | +673 | +671 | City of Benbrook, City of Fort Worth.
| Approximately 705 feet from intersection with Dawn Drive | +690 | +692
Pond Branch | Approximately 95 feet downstream of intersection with Depot Street | +586 | +587 | City of Mansfield.
| Approximately 37 feet downstream of East Kimball Street | +602 | +600
Stream JC-1 | Approximately 300 feet downstream of West Tarrant Road intersection | +500 | +502 | City of Grand Prairie.
| Intersection with Duncan Perry Road | +505 | +503
Timber Creek | Approximately 700 feet upstream of confluence with Clear Fork of the Trinity River | +617 | +618 | City of Benbrook.
| Approximately 700 feet downstream of the intersection with McKinley Street | +693 | +692
Walnut Creek 3 | Approximately 4850 feet downstream from intersection with Highway 360 | +548 | +546 | City of Mansfield.
| Approximately 80 feet downstream from the intersection of 287 | +587 | +588
Watson Branch | Confluence with Walnut Creek 3 | +578 | +580 | City of Mansfield.
| Intersection with Highway 157 | None | +641
Willow Bend | The intersection with Willow Bend Creek at Meadowside Drive | +634 | +640 | City of Benbrook.
| Approximately 70 feet downstream of intersection with Williams Road | +706 | +707
* National Geodetic Vertical Datum.
+ North American Vertical Datum.
# Depth in feet above ground.
ADDRESSES
City of Benbrook
Maps are available for inspection at 911 Winscott Rd, Benbrook, TX 76126.
Send comments to The Honorable Jerry Dittrick, Mayor, 911 Winscott Rd, Benbrook, TX 76126.
City of Euless
Maps are available for inspection at 201 N Ector Dr., Euless, TX 76039.
Send comments to The Honorable Mary Saleh, Mayor, 201 N Ector Dr., Euless, TX 76039.
City of Fort Worth
Maps are available for inspection at 1000 Throckmorton St., Fort Worth, TX 76102.
Send comments to The Honorable Mike Moncrief, Mayor, 1000 Throckmorton St., Fort Worth, TX 76102.
City of Grand Prairie
Maps are available for inspection at 317 College St., Grand Prairie, TX 75053.
Send comments to The Honorable Charles England, Mayor, 317 W. College, Grand Prairie, TX 75050.
City of Grapevine
Maps are available for inspection at 413 South Main Street, Grapevine, TX 76051.
Send comments to The Honorable William D Tate, Mayor, P.O. Box 95104, Grapevine, TX 76099.
City of Keller
Maps are available for inspection at 158 South Main, Keller, TX 76248.
Send comments to The Honorable Pat McGrail, Mayor, P.O. Box 770, Keller, TX 76244.
City of Mansfield
Maps are available for inspection at 1305 East Broad St., Mansfield, TX 76063.
Send comments to The Honorable Mel Newman, Mayor, 1200 E Broad St., Mansfield, TX 76063.
City of South Lake
Maps are available for inspection at 667 North Carroll Avenue, Southlake, TX 76092.
Send comments to The Honorable Andy Wambsganss, Mayor, 1400 Main St, Southlake, TX 76092.
Town of Colleyville
Maps are available for inspection at 401 Oak Valley Rd., Colleyville, TX 76034.
Send comments to The Honorable David Kelly, Mayor, 100 Main Street, Colleyville, TX 76034.
Unincorporated Areas of Tarrant County
Maps are available for inspection at 100 E Weatherford St, Fort Worth, TX 76196.
Send comments to The Honorable B. Glen Whitley, County Judge, 100 E Weatherford St, Suite 501, Fort Worth, TX 76196.
District of Columbia Washington, D.C.
Anacostia River | Approximately at Anacostia Railroad Bridge | +11 | +13 | District of Columbia.
| At approximately 200 feet upstream of New York Avenue | +15 | +17
Barnaby Run | Approximately at the confluence with Oxon Run | None | +21 | District of Columbia.
| At approximately 1200 feet upstream of South Capital and Southern Avenue | +49 | +53
Broad Branch | At approximately 2560 feet upstream of Ridge Road | +101 | +102 | District of Columbia.
| At approximately 760 feet upstream of 27th Street | +180 | +187
Creek Along Normanstone Drive | At approximately 230 feet downstream of the Rock Creek Drive | +41 | +40 | District of Columbia.
| At approximately 190 feet upstream of Normanstone Drive | +149 | +150
East Creek A | At approximately 2250 feet downstream of Dalecarlia Parkway | +164 | +165 | District of Columbia.
| At approximately 675 feet downstream of Dalecarlia Parkway | +168 | +169
East Creek B | Approximately at the Glenbrook Road | +239 | +240 | District of Columbia.
| At approximately 760 feet upstream of Driveway Bridge #4 | +314 | +308
Fenwick Branch | Approximately at the confluence with Rock Creek | +174 | +176 | District of Columbia.
| At approximately 3620 feet upstream of the confluence with Tributary of Fenwick Branch | +234 | +232
Fort Dupont Creek | Approximately 500 feet downstream of Minnesota Avenue Bridge | +24 | +23 | District of Columbia.
| At approximately 40 feet downstream of Minnesota Avenue Bridge | +28 | +29
Melvin Hazen Branch | Approximately 1000 feet upstream from Connecticut Avenue, NW | +209 | +208 | District of Columbia.
| At approximately 125 feet downstream of Reno Road | +245 | +244
Oxon Run | At approximately 320 feet upstream of the confluence with Barnaby Run | +22 | +23 | District of Columbia.
| At approximately 6160 feet upstream of Wheeler Road | +102 | +103
Pinehurst Run | Approximately at the confluence with Rock Creek | None | +165 | District of Columbia.
| At approximately 3100 feet upstream of Oregon Avenue | +251 | +255
Pope Branch | At approximately 80 feet upstream of Minnesota Avenue | +32 | +45 | District of Columbia.
| Approximately 4630 feet upstream of Minnesota Avenue | +152 | +159
Potomac River | At approximately 500 feet downstream of Route 95 | +10 | +9 | District of Columbia.
| At approximately 2200 feet upstream of Chain Bridge Road | +42 | +41
Rock Creek | Approximately at the confluence with Potomac River | +15 | +16 | District of Columbia.
| Approximately at the confluence with Fenwick Branch | +174 | +176
Tributary to Fenwick Branch | Approximately at the confluence with Fenwick Creek | +189 | +191 | District of Columbia.
| At approximately 2500 feet upstream of the confluence with Fenwick Branch | +232 | +231
Watts Branch | Approximately at the confluence with Anacostia River | +13 | +15 | District of Columbia.
| Approximately at Southern Avenue | +93 | +96
* National Geodetic Vertical Datum.
+ North American Vertical Datum.
# Depth in feet above ground.
ADDRESSES
District of Columbia
Maps are available for inspection at 51 N Street, NE., Suite 5020, Washington, DC 20002.
Send comments to Mr. Timothy Karikari, P.E., CPESC, NFIP Coordinator, 51 N Street, NE., 5th Floor, Room 5021, Washington, DC 20002.

(Catalog of Federal Domestic Assistance No. 97.022, “Flood Insurance.”)

Dated: September 18, 2007.
David I. Maurstad,
Federal Insurance Administrator of the National Flood Insurance Program, Department of Homeland Security, Federal Emergency Management Agency.

[FR Doc. E7-18951 Filed 9-25-07; 8:45 am]

BILLING CODE 9110-12-P